NUCLEAR REGULATORY COMMISSION

[Docket Nos. 50-352 and 50-353; NRC-2011-0166]

Exelon Generation Company, LLC; Notice of Intent To Prepare an Environmental Impact Statement and Conduct the Scoping Process for Limerick Generating Station, Units 1 and 2

Exelon Generation Company, LLC (Exelon) has submitted an application for renewal of Facility Operating Licenses NPF-39 and NPF-85 for an additional 20 years of operation at Limerick Generating Station Units 1 and 2 (LGS). LGS is located in Limerick, Pennsylvania.

The current operating licenses for LGS expire on October 26, 2024, for Unit 1, and June 22, 2029, for Unit 2. The application for renewal, dated June 22, 2011, was submitted pursuant to Title 10 of the Code of Federal Regulations (10 CFR) part 54, which included an environmental report (ER). A separate notice of receipt and availability of the application was published in the Federal Register on July 26, 2011 (76 FR 44624). A notice of acceptance for docketing of the application and opportunity for hearing regarding renewal of the facility operating license is also being published in the Federal Register. The purpose of this notice is to inform the public that the U.S. Nuclear Regulatory Commission (NRC or the Commission) will be preparing an environmental impact statement (EIS) related to the review of the license renewal application and to provide the public an opportunity to participate in the environmental scoping process, as defined in 10 CFR 51.29.

As outlined in 36 CFR 800.8, “Coordination with the National Environmental Policy Act,” the NRC plans to coordinate compliance with Section 106 of the National Historic Preservation Act (NHPA) in meeting the requirements of the National Environmental Policy Act of 1969 (NEPA). Pursuant to 36 CFR 800.8(c), the NRC intends to use its process and documentation for the preparation of the EIS on the proposed action to comply with Section 106 of the NHPA in lieu of the procedures set forth at 36 CFR 800.3 through 800.6.

In accordance with 10 CFR 51.53(c) and 10 CFR 54.23, Exelon submitted the ER as part of the application. The ER was prepared pursuant to 10 CFR part 51 and is publicly available at the NRC public document room (PDR), located at One White Flint North, 11555 Rockville Pike, Rockville, Maryland 20852. The ER may also be viewed on the Internet at http://www.nrc.gov/reactors/operating/licensing/renewal/applications.html. In addition, paper copies of the ER are available to the public near the site at the Pottstown Regional Public Library, 500 East High Street, Pottstown, Pennsylvania 19464-5656, and the Royersford Free Public Library, 200 South 4th Avenue, Royerford, Pennsylvania 19468-2548.

This notice advises the public that the NRC intends to gather the information necessary to prepare a plant-specific supplement to the NRC's “Generic Environmental Impact Statement (GEIS) for License Renewal of Nuclear Plants” (NUREG-1437), related to the review of the application for renewal of the LGS operating licenses for an additional 20 years.

Possible alternatives to the proposed action (license renewal) include no action and reasonable alternative energy sources. The NRC is required by 10 CFR 51.95 to prepare a supplement to the GEIS in connection with the renewal of an operating license. This notice is being published in accordance with NEPA and the NRC's regulations found at 10 CFR Part 51.

The NRC will first conduct a scoping process for the supplement to the GEIS and, as soon as practicable thereafter, will prepare a draft supplement to the GEIS for public comment. Participation in the scoping process by members of the public and local, state, Tribal, and Federal government agencies is encouraged. The scoping process for the supplement to the GEIS will be used to accomplish the following:

a. Define the proposed action, which is to be the subject of the supplement to the GEIS;

b. Determine the scope of the supplement to the GEIS and identify the significant issues to be analyzed in depth;

c. Identify and eliminate from detailed study those issues that are peripheral or that are not significant;

d. Identify any environmental assessments and other ElSs that are being or will be prepared that are related to, but are not part of, the scope of the supplement to the GEIS being considered;

e. Identify other environmental review and consultation requirements related to the proposed action;

f. Indicate the relationship between the timing of the preparation of the environmental analyses and the Commission's tentative planning and decision-making schedule;

g. Identify any cooperating agencies and, as appropriate, allocate assignments for preparation and schedules for completing the supplement to the GEIS to the NRC and any cooperating agencies; and

h. Describe how the supplement to the GEIS will be prepared and include any contractor assistance to be used.

The NRC invites the following entities to participate in scoping:

a. The applicant, Exelon;

b. Any Federal agency that has jurisdiction by law or special expertise with respect to any environmental impact involved or that is authorized to develop and enforce relevant environmental standards;

c. Affected state and local government agencies, including those authorized to develop and enforce relevant environmental standards;

d. Any affected Indian Tribe;

e. Any person who requests or has requested an opportunity to participate in the scoping process; and

f. Any person who has petitioned or intends to petition for leave to intervene.

In accordance with 10 CFR 51.26, the scoping process for an EIS may include a public scoping meeting to help identify significant issues related to a proposed activity and to determine the scope of issues to be addressed in an EIS. The NRC has decided to hold public meetings for the LGS license renewal supplement to the GEIS. The scoping meetings will be held on September 22, 2011, and there will be two sessions to accommodate interested parties. The first session will convene at 2 p.m. (EST), and will continue until 4 p.m. The second session will convene at 7 p.m. with a repeat of the overview portions of the meeting and will continue until 9 p.m., as necessary. Both sessions will be held at the Sunnybrook Ballroom, 50 North Sunnybrook Road, Pottstown, Pennsylvania 19464-2946.

Both meetings will be transcribed and will include: (1) An overview by the NRC staff of the NEPA environmental review process, the proposed scope of the supplement to the GEIS, and the proposed review schedule; and (2) the opportunity for interested government agencies, organizations, and individuals to submit comments or suggestions on the environmental issues or the proposed scope of the supplement to the GEIS. Additionally, the NRC staff will host informal discussions one hour prior to the start of each session at the same location. No formal comments on the proposed scope of the supplement to the GEIS will be accepted during the informal discussions. To be considered, comments must be provided either at the transcribed public meetings or in writing, as discussed below.

Persons may register to attend or present oral comments at the meetings on the scope of the NEPA review by contacting the NRC Project Manager, Ms. Lisa Regner, by telephone at 800-368-5642, extension 1906, or by e-mail at Lisa.Regner@nrc.gov no later than September 16, 2011. Members of the public may also register to speak at the meeting within 15 minutes of the start of each session. Individual oral comments may be limited by the time available, depending on the number of persons who register. Members of the public who have not registered may also have an opportunity to speak if time permits. Public comments will be considered in the scoping process for the supplement to the GEIS. Ms. Regner will need to be contacted no later than September 9, 2011, if special equipment or accommodations are needed to attend or present information at the public meeting so that the NRC staff can determine whether the request can be accommodated.

ADDRESSES: Please include Docket ID NRC-2011-0166 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2011-0166. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The ADAMS Accession Number for the LGS ER is ML11179A104.

• Federal Rulemaking Web Site: Public comments and supporting materials related to this notice can be found at http://www.regulations.gov by searching on Docket ID NRC-2011-0166.

Participation in the scoping process for the supplement to the GEIS does not entitle participants to become parties to the proceeding to which the supplement to the GEIS relates. Matters related to participation in any hearing are outside the scope of matters to be discussed at this public meeting. The notice of acceptance for docketing of the application and opportunity for hearing that was published in the Federal Register describes the hearing process.

Dated at Rockville, Maryland this 17th day of August, 2011.
For the Nuclear Regulatory Commission.
Dennis C. Morey,
Chief, Reactor Projects Branch 1, Division of License Renewal, Office of Nuclear Reactor Regulation.

[FR Doc. 2011-21921 Filed 8-25-11; 8:45 am]

BILLING CODE 7590-01-P